DEPARTMENT OF AGRICULTURE

Farm Service Agency

Information Collection: Highly Erodible Land Conservation and Wetland Conservation

AGENCIES: Farm Service Agency, USDA.

ACTION: Notice; request for comments.

SUMMARY: In accordance with the Paperwork Reduction Act of 1995, the Farm Service Agency's (FSA) is seeking comments from all interested individuals and organizations on the extension with revision of a currently approved information collection associated with Highly Erodible Land Conservation and Wetland Conservation certification requirements. This information is collected in support of the conservation provisions of Title XII of the Food Security Act of 1985, as amended by the Food, Agriculture, Conservation and Trade Act of 1990, the Federal Agriculture, Improvement and Reform Act of 1996, and the Farm Security and Rural Investment Act of 2002 (the Statute).

DATES: Comments on this notice must be received on or before May 26, 2006 to be assured consideration.

Additional Information or Comments: Comments concerning this notice should be addressed to Jan Jamrog, Program Manager, Production, Emergencies, and Compliance Division, Farm Service Agency, United States Department of Agriculture, STOP 0517, 1400 Independence Avenue, SW., Washington, DC 20250-0517, (202) 690-0926, facsimile (202) 720-4941. Comments should also be sent to the Desk Officer for Agriculture, Office of Information and Regulatory Affairs, Office of Management and Budget, Washington, DC 20503. Copies of the information collection may be requested by writing to Jan Jamrog at the above address. Comments may be also submitted by e-mail to Jan.Jamrog@wdc.usda.gov.

SUPPLEMENTARY INFORMATION:

Title: Highly Erodible land Conservation and Wetland Conservation Certification.

OMB Control Number: 0560-0185.

Expiration Date of Approval: October 31, 2006.

Type of Request: Extension and revision of a currently approved information collection.

Abstract: The collection of this information is necessary to determine payment eligibility of individuals and entities for various programs administered by the USDA including the Conservation Programs, Price Support Programs, Direct and Counter Cyclical Program, Noninsured Assistance Program, Disaster Programs and Farm Loan Programs. Regulations governing those requirements under Title XII of the Food Security Act of 1985, as amended by the Food, Agriculture, Conservation and Trade Act of 1990, the Federal Agriculture, Improvement and Reform Act of 1996, and the Farm Security and Rural Investment Act of 2002 relating to highly erodible lands and wetlands are codified in 7 CFR part 12. In order to ensure that persons who request program benefits subject to conservation restrictions obtain the necessary technical assistance and are informed regarding the compliance requirements on their land, information is collected with regard to their intended activities on their land which could affect their eligibility for requested USDA benefits. Producers are required to certify that they will comply with the conservation requirements on their land to maintain their eligibility for certain programs. Persons may request that certain activities be exempt according to provisions of the Statute. Information is collected from those who seek these exemptions for the purpose of evaluating whether the exempted conditions will be met. Forms AD-1026, AD-1026B, AD-1026-C, AD-1026D, AD-1068, AD-1069, CCC-21, and FSA-492 are being used for making determinations in this information collection. The forms are not required to be completed on an annual basis.

Estimate of Burden: Public reporting burden for this collection of information is estimated to average .16 hours (10 minutes) per response.

Respondents: Individuals and entities.

Estimated Number Respondents: 262,175.

Estimated Total Annual Burden Hours: 43,696.

Comments are invited on: (a) Whether the collection information is necessary for the proper performance of the functions of the agency, including the validity of the methodology and assumptions used; (c) ways to enhance the quality, utility, and clarity of the information collected; and (d) ways to minimize the burden of the collection of the information on those who are to respond, including the use of appropriate automated, electronic, mechanical, or other technological collection techniques or other forms of information technology.

All comments to this notice will be summarized and included in the request for OMB approval. All comments will also become a matter of public record.

Signed at Washington, DC, on March 21, 2006.
Teresa C. Lasseter,
Administrator, Farm Service Agency.

[FR Doc. E6-4423 Filed 3-24-06; 8:45 am]

BILLING CODE 3410-05-P